DEPARTMENT OF STATE

[Public Notice 7955]

Advisory Committee on International Postal and Delivery Services

AGENCY: Department of State.

ACTION: Notice, FACA Committee meeting announcement.

SUMMARY: As required by the Federal Advisory Committee Act, Public Law 92-463, the Department of State gives notice of a meeting of the Advisory Committee on International Postal and Delivery Services (the Advisory Committee). This Committee has been formed in fulfillment of the provisions of the 2006 Postal Accountability and Enhancement Act (Pub. L. 109-435) and in accordance with the Federal Advisory Committee Act.

Date and Time: The meeting will be held on Thursday, August 2, 2012, from 10 a.m. to 1 p.m., and is open to the public.

Location: The American Institute of Architects, 1735 New York Ave. NW., Washington, DC 20006.

Purpose and Summary of Agenda: The meeting will discuss the U.S. government's participation for the 25th Congress of the Universal Postal Union which will be held in Doha, Qatar beginning September 24, 2012. The public and members of the Advisory Committee will be briefed on preparations for the Congress, including the official U.S. delegation, and on policy initiatives. The Committee members, and subsequently members of the public, will be invited to provide additional input regarding policy issues related to the Doha Congress and to other international postal and delivery matters.

Public input: Any member of the public interested in providing public input to the meeting should contact Ms. Helen Grove, whose contact information is listed under FOR FURTHER INFORMATION CONTACT section of this notice. Each individual providing oral input is requested to limit his or her comments to five minutes. Requests to be added to the speaker list must be received in writing (letter, email or fax) prior to the close of business on July 27, 2012; written comments from members of the public for distribution at this meeting must reach Ms. Grove by letter, email or fax by this same date. A member of the public requesting reasonable accommodation should make the request to Ms. Grove by that same date.

FOR FURTHER INFORMATION CONTACT: Please contact Helen Grove, Office of Global Systems (IO/GS), Bureau of International Organization Affairs, U.S. Department of State, at (202) 647-1044, GroveHA@State.gov.

Dated: July 9, 2012.
Robert Richard Downes,
Designated Federal Officer, Advisory Committee on International Postal and Delivery Services, Bureau of International Organization Affairs, Department of State.

[FR Doc. 2012-17259 Filed 7-13-12; 8:45 am]

BILLING CODE 4710-19-P